DEPARTMENT OF THE INTERIOR

Fish and Wildlife Service

Notice of Availability of the Draft Recovery Plan for Silene spaldingii (Spalding's Catchfly)

AGENCY: Fish and Wildlife Service, Interior.

ACTION: Notice of document availability for review and comment.

SUMMARY: We, the U.S. Fish and Wildlife Service, announce the availability of the Draft Recovery Plan for Silene spaldingii (Spalding's Catchfly) for public review and comment. Silene spaldingii, a plant native to portions of Idaho, Montana, Oregon, Washington, and British Columbia, Canada, was listed as a threatened species under the Endangered Species Act on October 10, 2001 (66 FR 51598).

DATES: Comments on the draft recovery plan must be received on or before May 15, 2006.

ADDRESSES: Copies of the draft recovery plan are available for inspection, by appointment, during normal business hours at the following locations: Snake River Fish and Wildlife Office, U.S. Fish and Wildlife Service, 1387 S. Vinnell Way, Suite 368, Boise, Idaho 83709 (telephone: 208-378-5243; fax: 208-378-5262); Helena Office, U.S. Fish and Wildlife Service, 100 N. Park, Suite 320, Helena, Montana 59601 (telephone: 406-449-5322; fax: 406-449-5339); La Grande Office, U.S. Fish and Wildlife Service, 3502 Highway 30, La Grande, Oregon 97850 (telephone: 541-962-8584; fax: 541-962-8581); and Upper Columbia Fish and Wildlife Office, 11103 East Montgomery Drive, Suite 2, Spokane, Washington 99206 (telephone: 509-665-3508; fax: 509-665-3509). Requests for copies of the document should be addressed to the Field Supervisor at the above offices. An electronic copy of the draft recovery plan is also available online at http://endangered.fws.gov/recovery/index.html#plans and at http://idahoes.fws.gov.

For all comments submitted, a subject line must state “Spalding's catchfly comments” and include the name and address of the person submitting the comments. Comments may be submitted electronically at the following e-mail address: fw1srbocomment@fws.gov. Written comments may be sent directly to the Field Supervisor at the above Boise address or by facsimile to 208-378-5262.

FOR FURTHER INFORMATION CONTACT: Steve Duke, Division Chief, at the above Boise address (telephone: 208-387-5345; e-mail: Steve_Duke@fws.gov).

SUPPLEMENTARY INFORMATION:

Background

Restoring endangered or threatened animals and plants to the point where they are again secure, self-sustaining members of their ecosystems is a primary goal of our endangered species program. The Endangered Species Act (16 U.S.C. 1531 et seq.) (ESA) requires the development of recovery plans for listed species unless such a plan would not promote the conservation of a particular species. Recovery plans help guide the recovery effort by describing actions considered necessary for the conservation of the species, establishing criteria for downlisting or delisting listed species, and estimating time and cost for implementing the measures needed for recovery.

Section 4(f) of the ESA requires that public notice, and an opportunity for public review and comment, be provided during recovery plan development. We will consider all information presented during the public comment period prior to approval of each new or revised recovery plan. Substantive technical comments may result in changes to the recovery plan. Substantive comments regarding recovery plan implementation may not necessarily result in changes to the recovery plan, but will be forwarded to appropriate Federal or other entities so that they can take these comments into account during the course of implementing recovery actions. Individual responses to comments will not be provided.

Silene spaldingii (Spalding's catchfly) is a long-lived perennial forb in the pink or carnation family (Caryophyllaceae) with four to seven pairs of lance-shaped leaves and small greenish-white flowers. The green portions of the plant are covered in sticky hairs that often catch debris and small insects, hence the common name of the plant, “Spalding's catchfly.” Silene spaldingii is currently known from 85 primarily small populations; only 7 of these have more than 500 individuals, and an additional 20 populations have at least 100 individuals. Occupied habitat includes five physiographic regions in Idaho, Oregon, Washington, Montana, and British Colombia. These regions are as follows: the Palouse Grasslands in west-central Idaho and southeastern Washington, the Channeled Scablands in eastern Washington, the Blue Mountain Basins in northeastern Oregon, the Canyon Grasslands of the Snake River and its tributaries in Washington and Idaho, and the Intermontane Valleys of northwestern Montana and southern British Columbia.

Silene spaldingii is impacted by habitat loss due to human development, habitat degradation associated with domestic livestock and wildlife grazing, and invasions of aggressive nonnative plants. In addition, a loss of genetic fitness is a problem for many small, fragmented populations where genetic exchange is limited. Other impacts include changes in fire frequency and seasonality, off-road vehicle use, and herbicide spraying and drift.

The objective of this recovery plan is to recover Silene spaldingii by protecting and maintaining reproducing, self-sustaining populations in identified key conservation areas in each of its five distinct physiographic regions. Under the draft recovery plan this would be accomplished by developing habitat management plans at those key conservation areas that provide a strategy for managing Silene spaldingii and effectively address the threats to the species. Key conservation areas would need to support at least 500 reproducing individuals of Silene spaldingii, be composed of at least 80 percent native vegetation, have adjacent habitat to support pollinating insects, and are not small or fragmented (intact habitat, preferably at least 40 acres [16 hectares] in size). Delisting of Silene spaldingii would be considered when 26 populations occur rangewide at key conservation areas. Populations at these key conservation areas would have to demonstrate stable or increasing population trends for at least 20 years, nonnative plants would have to be successfully controlled, and prescribed burning must be conducted to mimic historical fire regimes and with care not to impact Silene spaldingii or to exacerbate invasive nonnative plant populations. Seed banking would have to also occur across the species' range, and a post-delisting monitoring program would be developed and ready for implementation at the time of delisting.

Public Comments Solicited

We solicit written comments on the draft recovery plan described. All comments received by the date specified above will be considered prior to approval of this plan.

Authority: The authority for this action is section 4(f) of the Endangered Species Act, 16 U.S.C. 1533(f).

Dated: October 20, 2005.
David J. Wesley,
Acting Regional Director, Region 1, U.S. Fish and Wildlife Service.

[FR Doc. E6-3802 Filed 3-15-06; 8:45 am]

BILLING CODE 4310-55-P